DEPARTMENT OF COMMERCE

Foreign-Trade Zones Board

[B-84-2014]

Authorization of Production Activity; Foreign-Trade Zone 82; MH Wirth, Inc. (Offshore Drilling Riser Systems); Theodore, Alabama

On November 3, 2014, the City of Mobile, Alabama, grantee of FTZ 82, submitted a notification of proposed production activity to the Foreign-Trade Zones (FTZ) Board on behalf of MH Wirth, Inc., within FTZ 82, in Theodore, Alabama.

The notification was processed in accordance with the regulations of the FTZ Board (15 CFR part 400), including notice in the Federal Register inviting public comment (79 FR 69831-69832, 11-24-2014). The FTZ Board has determined that no further review of the activity is warranted at this time. The production activity described in the notification is authorized, subject to the FTZ Act and the FTZ Board's regulations, including Section 400.14.

Dated: March 3, 2015.
Andrew McGilvray,
Executive Secretary.

[FR Doc. 2015-05277 Filed 3-5-15; 8:45 am]

BILLING CODE 3510-DS-P